CONSUMER PRODUCT SAFETY COMMISSION

Sunshine Act Meeting Notice

TIME AND DATE: Wednesday, July 24, 2019; 1:30 p.m.

PLACE: Hearing Room 420, Bethesda Towers, 4330 East West Highway, Bethesda, MD 20814.

STATUS: Commission Meeting.

MATTER TO BE CONSIDERED: Recreational Off-Highway Vehicles (ROV).

CONTACT PERSON FOR MORE INFORMATION: Alberta E. Mills, Secretary, Division of the Secretariat, Office of the General Counsel, U.S. Consumer Product Safety Commission, 4330 East West Highway, Bethesda, MD 20814, (301) 504-7479.

Dated: July 16, 2019.
Alberta E. Mills,
Secretary.

[FR Doc. 2019-15429 Filed 7-16-19; 4:15 pm]

BILLING CODE 6355-01-P